DEPARTMENT OF TRANSPORTATION

Federal Aviation Administration

14 CFR Part 73

[Docket No. 2002-FAA-14184; Airspace Docket No. 02-AWP-12]

RIN 2120-AA66

Proposed Amendment of Restricted Area R-2303A and R-2303B, Fort Huachuca, AZ

AGENCY: Federal Aviation Administration (FAA), DOT.

ACTION: Notice of proposed rulemaking.

SUMMARY: This action proposes to amend the designated time of use for restricted area R-2303A (R-2303A) and R-2303B, Fort Huachuca, AZ. Specifically, this action proposes to change the designated time of use for R-2303 A and B from “Monday-Friday 0700-1600 local time,” to “Monday-Friday 0700 to 1700 local time.” Increased training requirements at Fort Huachuca have resulted in a regular need for restricted airspace usage up to 1700 hours Monday through Friday. This proposed modification would not change the current boundaries or activities conducted in R-2303 A and B.

DATES: Comments must be received on or before March 10, 2003.

ADDRESSES: Send comments on this proposal to the Docket Management System, U.S. Department of Transportation, Room Plaza 401, 400 Seventh Street, SW., Washington, DC 20590-0001. You must identify the docket numbers FAA-2002-14184/Airspace Docket No. 02-AWP-12 at the beginning of your comments.

You may also submit comments through the Internet to http://dms.dot.gov. You may review the public docket containing the proposal; any comments received; and any final disposition in person in the Dockets Office between 9 a.m. and 5 p.m., Monday through Friday, except Federal holidays. The Dockets Office (telephone 1-800-647-5527) is on the plaza level of the NASSIF Building at the Department of Transportation at the above address. Also you may review public dockets on the Internet at http://dms.dot.gov. An informal docket may also be examined during normal business hours at the office of the Regional Air Traffic Division, Federal Aviation Administration, 15000 Aviation Boulevard, Lawndale, CA 90261.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted to the address listed above. Commenters wishing the FAA to acknowledge receipt of their comments on this notice must submit with those comments a self-addressed, stamped postcard on which the following statement is made: “Comments to Docket No. FAA-2002-14184/Airspace Docket No. 02-AWP-12.” The postcard will be date/time stamped and returned to the commenter.

All communications received on or before the specified closing date for comments will be considered before taking action on the proposed rule. The proposal contained in this notice may be changed in light of comments received. All comments submitted will be available for examination in the Rules Docket both before and after the closing date for comments. A report summarizing each substantive public contact with FAA personnel concerned with this rulemaking will be filed in the docket.

Availability of NPRM's

An electronic copy of this document may be downloaded through the Internet at http://dms.dot.gov. Recently published rulemaking documents can also be accessed through the FAA's web page at http://www.faa.gov or the Superintendent of Document's web page at http://www.access.gpo.gov/nara.

Additionally, any person may obtain a copy of this notice by submitting a request to the Federal Aviation Administration, Office of Air Traffic Airspace Management, ATA-400, 800 Independence Avenue, SW., Washington, DC 20591, or by calling (202) 267-8783. Communications must identify both docket numbers for this notice. Persons interested in being placed on a mailing list for future NPRM's should call the FAA's Office of Rulemaking, (202) 267-9677, for a copy of Advisory Circular No. 11-2A, Notice of Proposed Rulemaking Distribution System, which describes the application procedure.

Background

Restricted airspace at Fort Huachuca, AZ, dates back to the 1960's. The current designated time of use for the restricted area was based on past use. The U.S. Army requested this change since increased training requirements have resulted in a regular need for restricted airspace usage up to 1700 hours Monday through Friday. The restricted areas hours of use during the past several years has been routinely extended from 1600 hours to 1700 hours by the issuance of a Notice to Airmen (NOTAM).

The Proposal

The FAA is proposing an amendment to 14 Code of Federal Regulations (CFR) part 73 to amend the designated time of use for R-2303A and R-2303B Fort Huachuca, AZ. Specifically, this action proposes to change the designated time of use for R-2303 A and B from “Monday-Friday 0700-1600 local time,” to “Monday-Friday 0700-to 1700 local time.” The U.S. Army has proposed this modification to better accommodate increased training requirements at Fort Huachuca. This action would not change the current boundaries or activities conducted within R-2303A and B.

Section 73.48 of part 73 of the Federal Aviation Regulations was republished in FAA Order 7400.8K dated September 26, 2002.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subjected to the appropriate environmental analysis in accordance with FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. § 73.23 is amended as follows:

* * * * *

R-2303A, AZ [Amended]

By removing “Time of designation. Monday-Friday, 0700-1600 local time; other times by NOTAM at least 24 hours in advance,” and substituting “Time of designation. Monday-Friday, 0700-1700 local time; other times by NOTAM at least 24 hours in advance,” in its place.

R-2303B, AZ [Amended]

By removing “Time of designation. Monday-Friday, 0700-1600 local time; other times by NOTAM at least 24 hours in advance,” and substituting “Time of designation. Monday-Friday, 0700-1700 local time; other times by NOTAM at least 24 hours in advance,” in its place.

* * * * *

Issued in Washington, DC on January 16, 2003.
Reginald C. Matthews,
Manager, Airspace and Rules Division.

[FR Doc. 03-1476 Filed 1-22-03; 8:45 am]

BILLING CODE 4910-13-P